DEPARTMENT OF ENERGY

Federal Energy Regulatory Commission

[Docket No. RP00-184-000]

Natural Gas Pipeline Company of America; Notice of Proposed Changes in FERC Gas Tariff

February 24, 2000.

Take notice that on February 18, 2000, Natural Gas Pipeline Company of America (Natural) tendered for filing as part of its FERC Gas Tariff, Sixth Revised Volume No. 1, the tariff sheets listed on Appendix A to the filing, to be effective April 1, 2000.

Natural states that the filing is being submitted to reflect changes to its Tariff to: (1) establish a new inclusive rate form which would be an option available to all shippers under Natural's Rate Schedules FTS and DSS, (2) add to Natural's pro forma service agreement language which would allow adjustment of rate components to the extent consistent with a recent Commission order and (3) provide clarification of balancing service charges applicable to service under Natural's Rate Schedule PALS.

Natural requests waiver of the Commission's Regulations to the extent necessary to permit the tariff sheets submitted to become effective April 1, 2000.

Natural states that copies of the filing are being mailed to its customers and interested state regulatory agencies.

Any person desiring to be heard or to protest said filing should file a motion to intervene or a protest with the Federal Energy Regulatory Commission, 888 First Street, N.W., Washington, D.C. 20426, in accordance with Sections 385.214 or 385.211 of the Commission's Rules and Regulations. All such motions or protests must be filed in accordance with Section 154.210 of the Commission's Regulations. Protests will be considered by the Commission in determining the appropriate action to be take, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-4900 Filed 2-29-00; 8:45 am]

BILLING CODE 6717-01-M